DEPARTMENT OF ENERGY

Federal Energy Regulatory Commission

[Docket No. CP00-383-000; CP00-384-000; and CP00-385-000]

Norteño Pipeline Company and Southern Transmission company; Notice of Joint Applications

DATES : June 19, 2000.

Take notice that on June 9, 2000, Nortẽno Pipeline Company (Nortẽno) and Southern Transmission Company (Southern Transmission), (collectively applicants), both at 504 Lavaca Street, Austin, Texas, 78701, filed applications in the above referenced dockets pursuant to Section 7(b) of the Natural Gas Act (NGA) and Section 3 and Sections 153.1 through 153.8 of the Commission's Regulations, respectively, seeking authorization to allow Southern Transmission to succeed to all of Nortẽno's import and export authorizations to operate and maintain facilities for the transportation of natural gas to Mexico, all as more fully set forth in the application which is on file with the Commission and which is open to the public for inspection. The filing may be viewed at http://www.ferc/fed/us/online/rims.htm (call 202-208-2222 for assistance).

Any questions regarding the application should be directed to Dennis K. Morgan, Esquire, Nortẽno Pipeline Company, 504 Lavaca Street, Austin, Texas, 78701.

Pursuant to Section 7(b) of the NGA and Part 157 of the Commission's Regulations, Applicants, in Docket No. CP00-383-000, seek permission and approval to abandon by sale and conveyance to Southern Transmission and Del Norte export facilities owned and operated by Nortẽno located in El Paso, Texas, at the International Boundary.

Pursuant to Sections 153.10 through 153.12 of the Commission's Regulations, and Executive Order No. 10485, as amended by Executive Order 12038, Applicants, in Docket No. CP00-384-000, seek authorization permitting Southern Transmission to succeed to the Presidential Permit issued to Nortẽno in Docket No. CP96-83-000. Applicants state that the authorization sought does not seek any change in the terms and conditions of Nortẽno existing import and export authority apart from the succession of Southern Transmission as the holder of that authority.

Pursuant to Section 3 of the NGA and part 153 of the Commission's Regulations, Applicants, in Docket No. CP00-384-000, seek authorization permitting Southern Transmission to succeed to all of Nortẽo's existing authorizations to import and export natural gas to and from Mexico.

Upon authorization of the transactions described in these concurrent applications, Southern Transmission will (1) Own certain facilities of Nortẽno, (2) succeed to Nortẽno's certificates and import-export authorizations for the facilities related to its transportation services, and (3) utilize the facilities to render such services.

Applicants states that the sole purpose of these applications is to restructure Nortẽno as a natural gas company by transferring certain of its system operations to Southern Transmission. Applicants further states that the proposed applications will have no adverse impact on any of the existing services of Nortẽno and there will be no disruption or interruption of current services. Applicants requests that action be taken by the Commission no later than September 1, 2000.

Any person desiring to be heard or to make any protest with reference to said application should on or before July 10, 2000, file with the Federal Energy Regulatory Commission, 888 First Street, NE., Washington, DC 20426, a motion to intervene or a protest in accordance with the requirements of the Commission's rules of practice and procedure (18 CFR 385.214 and 385.211). All protests filed with the Commission will be considered by it in determining the appropriate action to be taken, but will not serve to make the protestants parties to the proceeding. Any person wishing to become a party to a proceeding or to participate as a party in any hearing therein must file a motion to intervene in accordance with the Commission's Rules.

A person obtaining intervenor status will be placed on the service list maintained by the Secretary of the Commission and will receive copies of all documents filed by the applicant and by every one of the intervenors. An intervenor can file for rehearing of any Commission order and can petition for court review of any such order. However, an intervenor must submit copies of comments or any other filings it makes with the Commission to every other intervenor in the proceeding, as well as an original and 14 copies with the Commission.

A person does not have to intervene, however, in order to have environmental comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its motion believes that a formal hearing is required, further notice of such hearing will be duly given.

Under the procedure herein provided for, unless otherwise advised, it will be unnecessary for Applicants to appear or be represented at the hearing.

David P. Boergers,
Secretary.

[FR Doc. 00-15905 Filed 6-22-00; 8:45 am]

BILLING CODE 6717-01-M